DEPARTMENT OF DEFENSE

Office of the Secretary

Proposed Collection; Comment Request

AGENCY: Defense Security Service, Office of the Secretary, DoD.

ACTION: Notice.

In compliance with section 3506(c)(2)(A) of the Paperwork Reduction Act of 1995, the Defense Security Service (DSS) announces the proposed collection affecting cleared DOD contractors and seeks public comments on the provision thereof. Comments are invited on: (a) Whether the proposed collection shall have practical utility; (b) the accuracy of the agency's estimate of the burden of the information to be collected; (c) ways to enhance the quality, utility and clarity of the information to be collected; and (d) ways to minimize the burden of the information collection on respondents, including through the use of automated collection techniques or other forms of information technology.

DATES: Consideration will be given to all comments received by April 4, 2003.

ADDRESSES: Written comments and recommendations on the proposed information collection should be sent to Defense Security Service, Chief, Program Integration Branch, ATTN: Mr. Richard L. Lawhorn, 1340 Braddock Place, Alexandria, VA 22314-1650.

FOR FURTHER INFORMATION CONTACT: To request more information on this proposed data collection or obtain a copy of the proposal and associated collection instrument, please write to the above address, or call Defense Security Service, (703) 325-5327 or (703) 325-6034.

Title and OMB Number: “Defense Security Industrial Security Review Data”, OMB No. 0704-XXXX and “Defense Security Service Industrial Security Facility Clearance Survey Data”, OMB No. 0704-XXXX.

Needs and Uses: Executive Order (EO) 12829, “National Industrial Security Program (NISP)”, dated January 6, 1993, as amended by EO 12885 dated December 14, 1993, established the NISP to safeguard Federal Government classified information. The Department of Defense (DOD) is one of four Cognizant Security Agencies that are signatories to the NISP. EO 12829 stipulates that the Secretary of Defense shall serve as the Executive Agent for inspecting and monitoring the contractors, licensees, and grantees who require or will require access, to or who store or will store classified information; and for determining the eligibility for access to classified information of contractors, licensees, and grantees and their respective employees. The specific requirements necessary to protect classified information released to private industry are set forth in DOD 5220.22M, “National Industrial Security Program Operating Manual (NISPOM). The Executive agent has the authority to issue, after consultation with affected agencies, standard forms or other standardization that will promote the implementation of the NISP. DOD Contractors are subject to an initial facility clearance survey and periodic government security reviews to determine their eligibility to participate in the NISP and ensure that safeguards employed are adequate for the protection of classified information.

DOD Directive, 5105.42 “Subject: Defense Security Service”, delineates the mission, functions and responsibilities of DSS. DSS is an Agency of the Department of Defense under the authority, direction, and control of the Assistant Secretary of Defense (Command, Control, Communication and Intelligence) (ASD (C3I)). DSS functions and responsibilities include the administration and implementation of the Defense portion of the NISP pursuant to Executive Order 12829.

DSS is the office of record for the maintenance of information pertaining to contractor facility clearance records and industrial security information regarding cleared contractors under its cognizance. To the extent possible, information required as part of the survey or security review is obtained as a result of observation by the representative of the CSA or its designated Cognizant Security Office. Some of the information may be obtained in conference with Key Management Personnel and/or employees of the company. The information is used to respond to all inquires regarding the facility clearance status and storage capability of cleared contractors. It is also used to assess and/or advise Government Contracting Activities regarding the contractor's continued ability to protect classified information.

Affected Public: Businesses, universities, partnerships or other profit and non-profit organizations participating in the Defense portion of the NISP.

Respondent Burden

Industrial Security Review Data

Total Annual Burden Hours: 38,619.6 hours.

Total Number of Respondents: 11,403.

Possessors of classified: 4,792.

Non-Possessors of classified: 6,611.

Responses per Respondent: 1.

Average Burden Hours per Respondent:

Possessors of classified: 5.3 hours.

Non-Possessors of classified: 2 hours.

Frequency: Periodic (e.g. Possessors—Annually, Non-Possessors—18 months, compliance reviews, or when directed.)

Industrial Security Facility Clearance Survey Data:

Total Annual Burden Hours: 3,144 hours.

Number of Respondents: 1,572.

Responses per Respondent: 1.

Average Burden Hours Per Respondent: 2 hours.

Frequency: On occasion (e.g. initial eligibility determination and when a significant changed condition, such as change in ownership.)

SUPPLEMENTARY INFORMATION:

Summary of Information Collection

The conduct of an Industrial Security Review and or Industrial Security Facility Clearance Survey assists in determining whether a contractor is eligible to establish its facility security clearance and/or retain participation in the NISP. It is also the basis for verifying whether contractors are appropriately implementing NISP security requirements. These requirements are necessary in order to preserve and maintain the security of the United States through establishing standards to prevent the improper disclosure of classified information.

In accordance with Department of Defense (DOD), 5220.22-R “Industrial Security Regulation”, DSS is required to maintain a record of the results of surveys and security reviews. Documentation for each survey and/or security review will be compiled addressing areas applicable to the contractor's security program. Portions of the data collected will be stored in databases. All data collected will be handled and marked, “For Official Use Only”.

Dated: January 22, 2003.
Patricia L. Toppings,
Alternate OSD Federal Register Liaison Officer, Department of Defense.

[FR Doc. 03-2281 Filed 1-31-03; 8:45 am]

BILLING CODE 5001-08-M